DEPARTMENT OF TRANSPORTATION

Federal Motor Carrier Safety Administration

[Docket Nos. FMCSA-2006-26367 and FMCSA-2011-0131]

Joint Motor Carrier Safety Advisory Committee and Medical Review Board Public Meeting

AGENCY: Federal Motor Carrier Safety Administration (FMCSA), DOT.

ACTION: Notice of Joint Motor Carrier Safety Advisory Committee (MCSAC) and Medical Review Board (MRB) meeting.

SUMMARY: FMCSA announces that the Agency's MCSAC and MRB will hold a joint meeting on Monday, August 29, 2011. The MCSAC will continue to meet on Tuesday, August 30-Wednesday, August 31, with the afternoon of August 31 being used for a meeting of the Cross-Border Trucking Pilot Program subcommittee. All three days of the meeting will be open to the public for their duration.

TIME AND DATES: The MCSAC-MRB meeting will be held on Monday, August 29, 2011, from 8:30 a.m. to 5 p.m., Eastern Time (E.T.), and the MCSAC meeting will continue on Tuesday and Wednesday, August 30-31, from 8:30 a.m. to 1 p.m., E.T. The last hour of each day of the full committee meeting will be reserved for public comment. At 1:30 p.m., E.T., on Wednesday, August 31, the MCSAC Cross Border Trucking Pilot Program subcommittee will meet until 5 p.m., E.T., with a public comment period from 4:30-5 p.m., E.T. The meeting will be held at the Hilton Alexandria Old Town, 1767 King Street, Alexandria, VA 22314 in the Washington and Jefferson Rooms on the 2nd floor.

Matters to be considered: The MCSAC and MRB will consider expert presentations on obstructive sleep apnea during the joint meeting on Monday. On Tuesday, the MCSAC will consider the report of its Electronic On-Board Recorder (EOBR) Implementation Subcommittee established in response to Task 11-04, with relevant expert presentations on the topic. On Wednesday, the MCSAC will return to its Task 11-02 regarding roadside violation severity weightings in the Carrier Safety Measurement System in FMCSA's Compliance, Safety, Accountability (CSA) program. That afternoon, the MCSAC Subcommittee established in response to Task 11-03, regarding the Agency's Cross Border Trucking Pilot Program, will meet. Copies of all MCSAC Task Statements are available at http://mcsac.fmcsa.dot.gov.

FOR FURTHER INFORMATION CONTACT: Ms. Shannon L. Watson, Senior Adviser to the Associate Administrator for Policy, Federal Motor Carrier Safety Administration, U.S. Department of Transportation, 1200 New Jersey Avenue, SE., Washington, DC 20590, (202) 385-2395, mcsac@dot.gov.

Information on services for individuals with disabilities:

For information on facilities or services for individuals with disabilities or to request special assistance at the meeting, contact Elizabeth Turner at 617-494-2068.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (FACA, 5 U.S.C. App 2).

MRB

Section 4116 of the Safe, Accountable, Flexible, Efficient Transportation Equity Act: A Legacy for Users (SAFETEA-LU, Pub. L. 109-59) requires the Secretary of Transportation with the advice of the MRB to “establish, review, and revise medical standards for operators of Commercial Motor Vehicles (CMVs) that will ensure that the physical condition of operators is adequate to enable them operate the vehicles safely.” On November 2, 2010, the Secretary of Transportation announced the five medical experts who serve on the MRB. FMCSA is planning revisions to the physical qualification regulations of CMV drivers, and the MRB will provide the necessary science-based guidance to establish realistic and responsible medical standards. The MRB operates in accordance with FACA.

Sleep Apnea and Other Sleep Disorders

The MCSAC and the MRB will discuss ideas and concepts the Agency should consider for regulatory guidance or future rulemaking on obstructive sleep apnea.

EOBR Implementation Task

The MCSAC EOBR Implementation Subcommittee will report back to the full committee on its work on Task 11-04, to examine technical issues relating to the electronic transfer of hours-of-service information from trucks to law enforcement personnel at the roadside.

Roadside Violation Severity Weightings Task

The MCSAC will continue its deliberations on Task 11-02, concerning violation severity weightings under the Compliance, Safety, Accountability (CSA) program.

Cross Border Trucking Pilot Program Task

The MCSAC Subcommittee will continue its work on Task 11-03 concerning the opening of the Southern Border to long-haul Mexican trucks.

II. Meeting Participation

Oral comments from the public will be heard during the last hour of each day of this meeting. Members of the public may submit written comments on this topic by Wednesday, August 24, 2011, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room WI2-140, Washington, DC 20590.

• Hand Delivery: U.S. Department of Transportation, 1200 New Jersey Avenue, SE., Room WI2-140, Washington, DC, between 9 a.m. and 5 p.m., Monday through Friday, except Federal holidays.

Issued on: August 5, 2011.
Larry W. Minor,
Associate Administrator for Policy.

[FR Doc. 2011-20295 Filed 8-9-11; 8:45 am]

BILLING CODE 4910-EX-P